DEPARTMENT OF HOUSING AND URBAN DEVELOPMENT

[Docket Nos. FR-5030-FA-10, FR-5030-FA-13, FR-5030-FA-17, and FR-5030-FA-29]

Announcement of Funding Award—FY 2006; Office of Healthy Homes and Lead Hazard Control Grant Programs

AGENCY: Office of the Secretary, Office of Healthy Homes and Lead Hazard Control.

ACTION: Announcement of awards funded.

SUMMARY: In accordance with section 102(a)(4)(C) of the Department of Housing and Urban Development Reform Act of 1989, this announcement notifies the public of funding decisions made by the Department in competitions for funding under the Office of Healthy Homes Lead Hazard Control Grant Programs and the Reopened Lead Hazard Reduction Demonstration Grant Program Notices of Funding Availability (NOFAs). This announcement contains the name and address of the award recipients and the amounts awarded.

FOR FURTHER INFORMATION CONTACT: Jonnette Hawkins, Department of Housing and Urban Development, Office of Healthy Homes and Lead Hazard Control, Room 8236, 451 Seventh Street, SW., Washington, DC 20410, telephone (202) 755-1785, ext. 7593. Hearing- and speech-impaired persons may access the number above via TTY by calling the toll free Federal Information Relay Service at (800) 877-8339.

SUPPLEMENTARY INFORMATION: These awards were the result of competitions announced in Federal Register notices published on March 8, 2006 (71 FR 11814) and on September 15, 2006 (71 FR 54554). The purpose of the competitions was to award funding for grants and cooperative agreements for the Office of Healthy Homes and Lead Hazard Control Grant Programs and the Reopened Lead Hazard Reduction Demonstration Grant Program. Applications were scored and selected on the basis of selection criteria contained in these Notices. A total of approximately $149,690,673 was awarded.

In accordance with section 102(a)(4)(C) of the Department of Housing and Urban Development Reform Act of 1989 (103 Stat. 1987, 42 U.S.C. 3545), the Department is publishing the names, addresses, and amounts of these awards as follows:

A total of $81,653,722 was awarded to 30 grantees for the Lead Based Paint Hazard Control Grant Program. All of the funds have been awarded, except for $3,000,000 to one grantee where negotiations continue: Cochise County, Lead Hazard Control Program, P.O. Box 167, 100 Clawson Ave., Bisbee, AZ 85603, $1,971,253; State of California, Community Services & Development Programs, 700 North 10th St., Room 258, Sacramento, CA 95814, $3,000,000; San Bernardino County, Public Health, Child & Family Health Services, 120 Carousel Mall, San Bernardino, CA 92415-0475, $3,000,000; State of Connecticut, 25 Sigourney St., Hartford, CT 06106, $3,000,000; City of Hartford, 131 Coventry St., Hartford, CT 06112, $3,000,000; St. Clair County, Intergovernmental Grants, 19 Public Square, Suite 200, Belleville, IL 62220, $2,116,478; Madison County, Community Development, 130 Hillsboro, Edwardsville, IL 62025, $3,000,000; County of Peoria, Peoria City County Health Dept., 2116 N. Sheridan Road, Peoria, IL 61604-3457, $3,000,000; City of Fort Wayne, Room 800, City County Building, One Main St., Fort Wayne, IN 46802, $1,897,415; City of South Bend, 501 Alonzo Watson Drive, South Bend, IN 46601, $3,000,000; State of Kansas, 1000 SW Jackson, Suite 330, Topeka, KS 66612, $2,987,083; City of Boston, Neighborhood Development Home Owner Services, 26 Court St., 9th Floor, Boston, MA 02108, $3,000,000; City of Somerville, Strategic Planning & Community Development, 93 Highland Ave., City Hall, Somerville, MA 02143, $1,911,849; State of Michigan, Department of Community Health, Environmental and Occupational Epidemiology, P.O. Box 30195, Lansing, MI 48909, $3,000,000; County of St. Louis, Community Development/Planning, 121 South Meramec, Suite 444, Clayton, MO 63105, $2,715,390; City of Charlotte, Neighborhood Development, Housing Services, 600 E. Trade St., Charlotte, NC 28202, $2,999,944; State of North Carolina, Lead Poisoning Prevention Program, 1632 Mail Service Center, Raleigh, NC 27699, $3,000,000; County of Orange, Community Development, 255 Main St., Goshen, NY 10924, $2,821,149; Monroe County, Public & Environmental Health, 111 Westfall Rd., P.O. Box 92832, Rochester, NY 14692, $2,998,283; Onondaga County, Community Development, 1100 Civic Center, Syracuse, NY 13202, $3,000,000; County of Westchester, Department of Planning, 148 Martine Ave., Room 114, White Plains, NY 10601, $3,000,000; City of Portland, Housing & Community Development, 421 S.W. Sixth Ave., Suite 1100, Portland, OR 97204, $3,000,000; Commonwealth of Pennsylvania, Department of Health, Seventh & Forster St., 7th Floor East Wing, Harrisburg, PA 17120, $3,000,000; County of Lawrence, 430 Court St., New Castle, PA 16101, $3,000,000; State of Rhode Island, Development Department, Lead, 44 Washington St., Providence, RI 02903, $3,000,000; City of Warwick, Planning Department, Office of Housing & Community, 3275 Post Road, City Hall Annex, Warwick, RI 02886, $2,125,992; Shelby County, Department of Housing, Planning and Development, 1075 Mullins Station Road, Memphis, TN 38134, $2,998,886; Salt Lake County, Human Services/Community Resources & Development, 2001 State St., S-2100, Salt Lake City, UT 84190, $2,010,000; County of Rock, Planning & Development, 51 South Main St., Janesville, WI 53545, $1,100,000, and negotiations continue with City of St. Louis, 1015 Locust St., Suite 1200, St. Louis, MO 63101, $3,000,000.

A total of $20,535,349 was awarded to 7 grantees for the Lead Hazard Reduction Demonstration Grant Program: State of Connecticut, 25 Sigourney St., Hartford, CT 06106, $4,000,000; City of Hartford, 131 Coventry St., Hartford, CT 06112, $3,416,713; City of Boston, Neighborhood Development Homeowner Services, 26 Court St., 9th Floor, Boston, MA 02108, $1,545,966; City of Somerville, SPCD Housing, City Hall, 93 Highland Ave., Somerville, MA 02143, $1,572,670; City of St. Louis, 1015 Locust St., Suite 1200, St. Louis, MO 63101, $4,000,000; County of Westchester, Department of Planning and Housing, 148 Martine Ave., Room 414, White Plains, NY 10601, $2,000,000; City of Cleveland, 1925 St. Clair Ave., Cleveland, OH 44114, $4,000,000.

A total of $5,999,823 was awarded to 3 grantees for the Operation Lead Elimination Action Program (LEAP): Environmental Education Associates, Inc., 346 Austin St., Buffalo, NY 14201, $1,999,997; Mahoning Valley Real Estate Investors Association, 2901 Market St., Suite 200, Youngstown, OH 44507, $2,000,000; Middle Tennessee State University, Engineering, Technical & Industrial Studies, Occupational Health and Safety, 1500 Greenland Drive, Campus P.O. Box 19, Murfreesboro, TN 37132, $1,999,826.

A total of $2,778,130 was awarded to 7 grantees for the Lead Technical Studies Program: University of Illinois Board of Trustees, 1901 S. First St., Suite A, Champaign, IL 61820, $369,114; University of Illinois at Chicago, School of Public Health, MB 502, M/C 551, 809 S. Marshfield Ave., Chicago, IL 60612-7205, $848,500; Phoenix Science & Technology, Inc., 27 Industrial Ave., Chelmsford, MA 01824, $375,207; St. Louis University, School of Public Health, Community Health, 211 North Grand Blvd., St. Louis, MO 63103, $495,732; Research Triangle Institute, 3040 Cornwallis Road, Research Triangle Park, NC 27709, $190,000; University of Cincinnati, Department of Environmental Health, Environmental and Occupational Hygiene, 47 Corry Blvd., Edwards One, Suite 7148, P.O. Box 210222, Cincinnati, OH 45221, $420,600; University of Cincinnati College of Medicine, Environmental Health, Epidemiology, 47 Corry Blvd., Edwards One, Suite 7148, P.O. Box 210222, Cincinnati, OH 45221, $78,977.

A total of $3,760,259 was awarded to 4 grantees for the Healthy Homes Demonstration Grant Program: Alameda County Lead Poisoning Prevention Program, Community Development Agency, Lead Poisoning Prevention, 2000 Embarcadero, Suite 300, Oakland, CA 94606, $1,000,000; City of Minneapolis Healthy Homes & Lead Hazard Control, Regulatory Services, Environmental Management & Safety, 250 S 4th St., Room 414, Minneapolis, MN 55415, $1,000,000; Cuyahoga County Board of Health Department, Community Health, 5550 Venture Drive, Parma, OH 44130, $1,000,000; Cook County Department of Public Health, Environmental Health Services, Prevention Services Unit, 1010 Lake St., Suite 300, Oak Park, IL 60301, $760,259.

A total of $2,000,000 was awarded to 8 grantees for the Lead Outreach Grants Program: Saint Francis Hospital & Medical Center, Pediatrics, 114 Woodland St., Hartford, CT, 06105, $298,058; Area Health Education Center of Southern Nevada, 1094 E. Sahara Ave., Las Vegas, NV 89104, $199,451; West Harlem Environmental Action, Inc., 271 West 125th St., Suite 206, New York, NY 10027, $282,960; Research Foundation of SUNY on behalf of SUNY Potsdam, P.O. Box 9, Potsdam, NY 12201-0009, $111,285; National Nursing Centers Consortium, U.S. HUD Lead Outreach Grant Program, 260 South Broad St., 18th Floor, Philadelphia, PA 19102, $200,000; Le Bonheur Community Outreach, 2400 Poplar Ave., Suite 318, Memphis, TN 38112, $250,332; Indiana Black Expo, Inc., Youth & Family Programs, 3145 N. Meridian St., Indianapolis, IN 46208, $357,914; Board of Regents, University of Nebraska—Lincoln, SE Research & Extension Center, IANR Cooperative Extension, 312 N. 14th St., Alexander Bldg., West, Lincoln, NE 68588, $300,000.

A total of $1,570,120 was awarded to 4 grantees for the Healthy Homes Technical Studies Grants Program: National Center for Healthy Housing, 10227 Wincopin Circle, Suite 0200, Columbia, MD 21044, $150,120; University of Minnesota, Environmental Health Sciences, 200 Oak St., SE, Suite 450, McNamara Alumni Center, Minneapolis, MN 55455, $490,000; St. Louis University, School of Public Health, Community Health, 211 North Grand Blvd., St. Louis, MO 63103, $530,000; University of Cincinnati, Environmental Health, Epidemiology, 47 Corry Blvd., Edwards One, Suite 7148, Cincinnati, OH 45221, $400,000.

A total of $31,393,270 was awarded to 12 grantees for the re-opened Lead Hazard Reduction Demonstration Grants Program: City and County of San Francisco, 1 South Van Ness Avenue, 5th Floor, San Francisco, CA 94103, $3,350,000; Winnebago County, 401 Division Street, Rockford, IL 61104, $1,237,911; City of Lansing, 124 W. Michigan Avenue, 8th Floor, Lansing, MI 48933, $1,384,886; City of Detroit, 65 Cadillac Square, Suite 2300, Detroit, MI 48226, $3,996,680; City of Manchester, NH, One City Hall, Manchester, NH 031010, $1,800,000; City of Albany Community Development, 200 Henry Johnson, Albany, NY 12210, $3,000,000; Buffalo Office of Strategic Planning, 65 Niagara Square, Suite 214, Buffalo, NY 14202, $1,112,880; City of Schenectady, 105 Jay Street, Schenectady, NY 12305, $1,036,249; City of Woonsocket, 169 Main Street, Woonsocket, RI 02895, $2,816,074; City of Austin, 1000 E. 11th Street, Austin, TX 78702, $3,761,662; Kenosha County Department of Human Services, 8600 Sheridan Road, Suite 600, Kenosha, WI 53143, $3,996,928; City of Milwaukee, 841 N. Broadway, Room 118, Milwaukee, WI 53202, $3,900,000.

Dated: March 28, 2007.
Jon L. Gant,
Director, Office of Healthy Homes and Lead Hazard Control.

[FR Doc. E7-6163 Filed 4-2-07; 8:45 am]

BILLING CODE 4210-67-P